DEPARTMENT OF TRANSPORTATION

Federal Aviation Administration

14 CFR Part 39

[Docket No. FAA-2017-0475; Product Identifier 2016-NM-142-AD; Amendment 39-19017; AD 2017-18-08]

RIN 2120-AA64

Airworthiness Directives; Dassault Aviation Airplanes

AGENCY: Federal Aviation Administration (FAA), Department of Transportation (DOT).

ACTION: Final rule.

SUMMARY: We are adopting a new airworthiness directive (AD) for all Dassault Aviation Model FALCON 2000 and FALCON 2000EX airplanes. This AD was prompted by reports of ice accretion on the airplane wing due to the failure of certain anti-ice piccolo tubes in the wing outboard slats. This AD requires repetitive inspections of each anti-ice piccolo tube and corrective action if necessary. We are issuing this AD to address the unsafe condition on these products.

DATES: This AD is effective October 5, 2017.

The Director of the Federal Register approved the incorporation by reference of certain publications listed in this AD as of October 5, 2017.

ADDRESSES: For service information identified in this final rule, contact Dassault Falcon Jet Corporation, Teterboro Airport, P.O. Box 2000, South Hackensack, NJ 07606; telephone 201-440-6700; Internet http://www.dassaultfalcon.com. You may view this referenced service information at the FAA, Transport Standards Branch, 1601 Lind Avenue SW., Renton, WA. For information on the availability of this material at the FAA, call 425-227-1221. It is also available on the Internet at http://www.regulations.gov by searching for and locating Docket No. FAA-2017-0475.

Examining the AD Docket

You may examine the AD docket on the Internet at http://www.regulations.gov by searching for and locating Docket No. FAA-2017-0475; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Section, Transport Standards Branch, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to all Dassault Aviation Model FALCON 2000 and FALCON 2000EX airplanes. The NPRM published in the Federal Register on May 22, 2017 (82 FR 23163) (“the NPRM”). The NPRM was prompted by reports of ice accretion on the airplane wing due to the failure of certain anti-ice piccolo tubes in the wing outboard slats. The NPRM proposed to require repetitive inspections of each anti-ice piccolo tube and corrective action if necessary. We are issuing this AD to detect and correct manufacturing defects in the anti-ice piccolo tubes in the wing outboard slats. This condition could lead to undetected significant ice accretion on a wing, resulting in loss of control of the airplane.

The European Aviation Safety Agency (EASA), which is the Technical Agent for the Member States of the European Union, has issued EASA Airworthiness Directive 2016-0149, dated July 25, 2016 (referred to after this as the Mandatory Continuing Airworthiness Information, or “the MCAI”), to correct an unsafe condition for all Dassault Aviation Model FALCON 2000 and FALCON 2000EX airplanes. The MCAI states:

Occurrences were reported of ice accretion on the wing, due to failure of the affected anti-ice piccolo tubes Part Number (P/N) FGFB725102. Investigation results indicated that some wing piccolo tubes P/N FGFB725102 could have manufacturing defects in their welded parts, which may have caused the rupture of the tubes, due to fatigue.

This condition, if not detected and corrected, could lead to undetected significant ice accretion on the wing, possibly resulting in loss of control of the aeroplane.

To address this potential unsafe condition, [Dassault Aviation] DA issued Service Bulletin (SB) F2000-431 Revision 1 and SB F2000EX-391 Revision 1 (hereafter referred to collectively as `the applicable SB' in this [EASA] AD) to provide instructions for endoscopic inspection of the tubes.

For the reasons described above, this [EASA] AD requires repetitive inspections of each wing outboard slat piccolo tube [for discrepancies, i.e., manufacturing defects, cracking, and loss of material in the welded parts] and, depending on findings, replacement of the piccolo tube(s) [and the outboard slat] with a [new or] serviceable part.

You may examine the MCAI in the AD docket on the Internet at http://www.regulations.gov by searching for and locating Docket No. FAA-2017-0475.

Comments

We gave the public the opportunity to participate in developing this AD. We received no comments on the NPRM or on the determination of the cost to the public.

Change to NPRM

We have added paragraph (j) to this AD to explain that although Dassault Service Bulletin F2000-431, Revision 1, dated June 6, 2016; and Service Bulletin F2000EX-391, Revision 1, dated June 6, 2016; specify to submit a report of crack findings to Dassault, this AD does not require a report. We have redesignated subsequent paragraphs accordingly.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Dassault Aviation has issued Service Bulletin F2000-431, Revision 1, dated June 6, 2016; and Service Bulletin F2000EX-391, Revision 1, dated June 6, 2016. The service information describes procedures for endoscopic inspections of the anti-ice piccolo tube on each wing outboard slat, and replacement or re-identification of affected anti-ice piccolo tubes and outboard slats. These documents are distinct since they apply to different airplane models. This service information is reasonably available because the interested parties have access to it through their normal course of business or by the means identified in the ADDRESSES section.

Costs of Compliance

We estimate that this AD affects 348 airplanes of U.S. registry.

We estimate the following costs to comply with this AD:

Estimated Costs
Action | Labor cost | Parts cost | Cost per product | Cost on U.S. operators
Inspection | 6 work-hours × $85 per hour = $510 per inspection cycle | $0 | $510 per inspection cycle | $177,480 per inspection cycle.

We have received no definitive data that will enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-18-08 Dassault Aviation: Amendment 39-19017; Docket No. FAA-2017-0475; Product Identifier 2016-NM-142-AD.

(a) Effective Date

This AD is effective October 5, 2017.

(b) Affected ADs

None.

(c) Applicability

This AD applies to Dassault Aviation Model FALCON 2000 and FALCON 2000EX airplanes, certificated in any category, all serial numbers.

(d) Subject

Air Transport Association (ATA) of America Code 30, Ice and Rain Protection.

(e) Reason

This AD was prompted by reports of ice accretion on the airplane wing due to the failure of certain anti-ice piccolo tubes in the wing outboard slats. We are issuing this AD to detect and correct manufacturing defects in the anti-ice piccolo tubes in the wing outboard slats. This condition could lead to undetected significant ice accretion on a wing, resulting in loss of control of the airplane.

(f) Compliance

Comply with this AD within the compliance times specified, unless already done.

(g) Affected Anti-ice Piccolo Tubes

(1) For the purpose of this AD, an affected anti-ice piccolo tube meets at least one of the conditions specified in paragraphs (g)(1)(i) and (g)(1)(ii) of this AD.

(i) Has part number (P/N) FGFB725102 (left-hand side (LH)) or P/N FGFB726102 (right-hand side (RH)).

(ii) Is installed on a wing outboard slat having a part number identified in table 1 to paragraph (g)(1)(ii) of this AD.

Table 1 to Paragraph (g)(1)(ii) of This AD—Affected Outboard Slats Part Numbers
LH | RH
FGFB134 | FGFB144.
FGFB134A1 to FGFB134A9 inclusive | FGFB144A1 to FGFB144A9 inclusive.
FGFB134B1 | FGFB144B1.
FFGFB134C1 to FGFB134C4 inclusive | FGFB144C1 to FGFB144C4 inclusive.
From FGFB134D1 to FGFB134D4 inclusive | FGFB144D1 to FGFB144D4 inclusive.
FGFB135 and FGFB135M | FGFB145 and FGFB145M.
FGFB135A1 to FGFB135A4 inclusive | FGFB145A1 to FGFB145A4 inclusive.
From FGFB135A1M to FGFB135A4M inclusive | FGFB145A1M to FGFB145A4M inclusive.
From FGFB135B1 to FGFB135B3 inclusive | FGFB145B1 to FGFB145B3 inclusive.
FGFB135B1M to FGFB135B3M inclusive | FGFB145B1M to FGFB145B3M inclusive.
F2MB135 | F2MB145.
F2MB135A1 | F2MB145A1.
F2MB135L1 to F2MB135L5 inclusive | F2MB145L1 to F2MB145L5 inclusive.

(2) If the outboard slat part number is identified in table 2 to paragraph (g)(2) of this AD, the anti-ice piccolo tube is not affected because the outboard slat has already been retrofitted with a new stiffened anti-ice piccolo tube, and no action is required by this AD for that piccolo tube.

Table 2 to Paragraph (g)(2) of This AD—Serviceable Outboard Slats Part Numbers
LH | RH
FGFB134P | FGFB144P.
FGFB134A1P through FGFB134A9P inclusive | FGFB144A1P through FGFB144A9P inclusive.
FGFB134B1P | FGFB144B1P.
FFGFB134C1P to FGFB134C4P inclusive | FGFB144C1P to FGFB144C4P inclusive.
From FGFB134D1P to FGFB134D4P inclusive | FGFB144D1P to FGFB144D4P inclusive.
FGFB135P and FGFB135MP | FGFB145P and FGFB145MP.
FGFB135A1P to FGFB135A4P inclusive | FGFB145A1P to FGFB145A4P inclusive.
From FGFB135A1MP to FGFB135A4MP inclusive | FGFB145A1MP to FGFB145A4MP inclusive.
From FGFB135B1P to FGFB135B3P inclusive | FGFB145B1P to FGFB145B3P inclusive.
FGFB135B1MP to FGFB135B3MP inclusive | FGFB145B1MP to FGFB145B3MP inclusive.
F2MB135P | F2MB145P.
F2MB135A1P | F2MB145A1P.
F2MB135L1P to F2MB135L5P inclusive | F2MB145L1P to F2MB145L5P inclusive.
F2MB135L6 to F2MB135L7 inclusive | F2MB145L6 to F2MB145L7 inclusive.

(h) Inspections

If an anti-ice piccolo tube has been determined to be affected, as specified in paragraph (g) of this AD: At the applicable time specified in table 3 to paragraph (h) of this AD, do an endoscopic inspection for discrepancies, i.e., manufacturing defects, cracking, and loss of material in the welded parts of each affected anti-ice piccolo tube, in accordance with the Accomplishment Instructions of Dassault Service Bulletin F2000-431, Revision 1, dated June 6, 2016; or Service Bulletin F2000EX-391, Revision 1, dated June 6, 2016; as applicable. Repeat the endoscopic inspection thereafter at intervals not to exceed those specified in table 3 to paragraph (h) of this AD, until the modification specified in paragraph (k) of this AD is done.

Table 3 to Paragraph (h) of this AD—Compliance Times for Inspections
Airplane model | Initial inspection | Repetitive inspection intervals
FALCON 2000 airplanes | Prior to exceeding 2,000 flight cycles since the airplane's first flight, or within 1,000 flight cycles after the effective date of this AD, whichever occurs later | 2,000 flight cycles.
FALCON 2000EX airplanes | Prior to exceeding 1,000 flight cycles since the airplane's first flight, or within 500 flight cycles after the effective date of this AD, whichever occurs later | 1,000 flight cycles.

(i) Corrective Action

If any discrepancy is found during any inspection required by paragraph (h) of this AD: Before further flight, replace the affected anti-ice piccolo tube with a new or serviceable part, and replace or re-identify the affected wing outboard slat as applicable, in accordance with the Accomplishment Instructions of Dassault Service Bulletin F2000-431, Revision 1, dated June 6, 2016; or Service Bulletin F2000EX-391, Revision 1, dated June 6, 2016; as applicable.

(j) Reporting Provisions

Although Dassault Service Bulletin F2000-431, Revision 1, dated June 6, 2016; and Service Bulletin F2000EX-391, Revision 1, dated June 6, 2016; specify to submit a report of crack findings to Dassault, this AD does not require a report.

(k) Optional Terminating Action

Modification of an airplane by installing a new or serviceable anti-ice piccolo tube, and replacing or re-identifying the affected wing outboard slat, terminates the repetitive inspections required by paragraph (h) of this AD, if done in accordance with the Accomplishment Instructions of Dassault Service Bulletin F2000-431, Revision 1, dated June 6, 2016; or Service Bulletin F2000EX-391, Revision 1, dated June 6, 2016; as applicable.

(l) Parts Installation Prohibition

As of the time specified in paragraph (l)(1) or (l)(2) of this AD, as applicable, no person may install on any airplane an affected anti-ice piccolo tube or an affected outboard slat.

(1) For an airplane that, on the effective date of this AD, has an affected anti-ice piccolo tube or an affected outboard slat installed: After modification of that airplane as required by paragraph (i) of this AD.

(2) For an airplane that, on the effective date of this AD, does not have an affected anti-ice piccolo tube or an affected outboard slat installed: As of the effective date of this AD.

(m) Later-Approved Parts

Installation on an airplane of an anti-ice piccolo tube having a part number approved after the effective date of this AD is acceptable for compliance with the requirements of paragraph (i) or paragraph (k) of this AD, as applicable, provided the conditions in paragraphs (m)(1) and (m)(2) of this AD are met.

(1) The anti-ice piccolo tube part number must be approved by the Manager, International Section, Transport Standards Branch, FAA; or the European Aviation Safety Agency (EASA); or Dassault Aviation's EASA Design Organization Approval (DOA).

(2) The installation of the anti-ice piccolo tube must be accomplished in accordance with a method approved by the Manager, International Section, Transport Standards Branch, FAA; or the EASA; or Dassault Aviation's EASA DOA.

(n) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (o)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the EASA; or Dassault Aviation's EASA DOA. If approved by the DOA, the approval must include the DOA-authorized signature.

(o) Related Information

(1) Refer to Mandatory Continuing Airworthiness Information (MCAI) EASA AD 2016-0149, dated July 25, 2016, for related information. This MCAI may be found in the AD docket on the Internet at http://www.regulations.gov by searching for and locating Docket No. FAA-2017-0475.

(2) For more information about this AD, contact Tom Rodriguez, Aerospace Engineer, International Section, Transport Standards Branch, FAA, 1601 Lind Avenue SW., Renton, WA 98057-3356; telephone 425-227-1137; fax 425-227-1149.

(p) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin F2000-431, Revision 1, dated June 6, 2016.

(ii) Dassault Service Bulletin F2000EX-391, Revision 1, dated June 6, 2016.

(3) For service information identified in this AD, contact Dassault Falcon Jet Corporation, Teterboro Airport, P.O. Box 2000, South Hackensack, NJ 07606; telephone 201-440-6700; Internet http://www.dassaultfalcon.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on August 21, 2017.
Dionne Palermo,
Acting Director, System Oversight Division, Aircraft Certification Service.

[FR Doc. 2017-18391 Filed 8-30-17; 8:45 am]

BILLING CODE 4910-13-P